NUCLEAR REGULATORY COMMISSION

Consideration of approval of a Decommissioning Plan for the Kaiser Aluminum and Chemical Corporation Facility in Tulsa, Oklahoma, and an Opportunity for a Hearing

AGENCY: Nuclear Regulatory Commission (NRC).

ACTION: Consideration of Approval of a Decommissioning Plan for the Kaiser Aluminum and Chemical Corporation Facility in Tulsa, Oklahoma, and an opportunity for a hearing.

The U.S. Nuclear Regulatory Commission (NRC) is considering approval of the Phase 2 Decommissioning Plan (DP) for the Kaiser Aluminum and Chemical Corporation (Kaiser) Facility in Tulsa, Oklahoma. Decommissioning of the Kaiser facility is being conducted in two Phases. In Phase 1, Kaiser remediated the land adjacent to the Kaiser property. In Phase 2, Kaiser will remediate its facility. On May 25, 2001, Kaiser submitted the Phase 2 DP. NRC performed an acceptance review, and on August 7, 2001, notified Kaiser that the information provided in the DP was sufficient to begin a technical review.

Contamination at the Kaiser facility consists of metallic dross/soil containing Th-228, Th-230, and Th-232, generated from smelting and manufacturing processes conducted from 1958 through 1970. The Phase 2 DP identifies the decommissioning activities that will be undertaken to remediate the Kaiser facility and make the site suitable for unrestricted release.

The NRC will require Kaiser to remediate its facility to meet NRC's decommissioning criteria in 10 CFR part 20, subpart E, “Radiological Criteria for License Termination,” and during the decommissioning activities, to maintain effluents and doses within NRC requirements, and as low as reasonably achievable.

Prior to approving the DP, NRC will make findings in accordance with the Atomic Energy Act of 1954, as amended, and NRC's regulations. These findings will be documented in a Safety Evaluation Report and an Environmental Assessment. Approval of the DP will be documented in the public record.

Although Kaiser is no longer a licensee, as a matter of discretion, NRC has decided to treat approval of the DP as a proceeding under subpart L, “Informal Hearing Procedures for Adjudication in Material Licensing Proceedings,” of NRC's rules and practice for domestic licensing proceedings in 10 CFR part 2. Discretion is being exercised in this case because of: (1) The unusually large volume of soil to be removed from the site; (2) the significant complexity of this project; and, (3) the close proximity of the site to a major population center. Pursuant to 10 CFR 2.1205(a), any person whose interest may be affected by this proceeding may file a request for a hearing in accordance with part 2.1205(d). A request for a hearing must be filed within thirty (30) days of the date of publication of this Federal Register notice.

Pusuant to 10 CFR 2.1203(b), the request for a hearing must be filed with the Office of the Secretary either:

1. By delivery to the Rulemaking and Adjudications Staff of the Secretary at One White Flint North, 11555 Rockville Pike, Rockville, MD 20852-2738; or

2. By mail or telegram addressed to the Secretary, U.S. Nuclear Regulatory Commission, Washington, DC 20555. Attention: Rulemaking and Adjudications Staff.

In addition to meeting other applicable requirements of 10 CFR part 2 of NRC's regulations, a request for a hearing filed by a person other than an applicant must describe in detail:

1. The interest of the requester in the proceeding;

2. How that interest may be affected by the results of the proceeding, including the reasons why the requestor should be permitted a hearing, with particular reference to the factors set out in part 2.1205(h);

3. The requestor's area of concern about the licensing activity that is the subject matter of the proceeding; and

4. The circumstances establishing that the request for a hearing is timely in accordance with part 2.1205(d).

In accordance with 10 CFR 2.1205(f), each request for a hearing must also be served, by delivering it personally or by mail, to:

1. The applicant, Kaiser Aluminum and Chemical Corporation, Attention: Mr. J. W. Vinzant

2. The NRC staff, by delivery to the General Counsel, One White Flint North, 11555 Rockville Pike, Rockville, MD 20852, or by mail, addressed to the General Counsel, U.S. Nuclear Regulatory Commission, Washington, DC 20555.

For further details with respect to this action, the Phase 2 DP is available for inspection at the NRC's Public Document Room, One White Flint North, 11555 Rockville Pike, Rockville, MD 20852-2738.

Dated at Rockville, Maryland, this 23rd day of October 2001.
For the Nuclear Regulatory Commission.
Larry W. Camper,
Chief, Decommissioning Branch, Division of Waste Management, Office of Nuclear Material Safety and Safeguards.

[FR Doc. 01-27260 Filed 10-29-01; 8:45 am]

BILLING CODE 7590-01-P